DEPARTMENT OF COMMERCE

National Oceanic and Atmospheric Administration

50 CFR Part 622

[I.D. 101901E]

Caribbean Fishery Management Council; Public Hearings

AGENCY: National Marine Fisheries Service (NMFS), National Oceanic and Atmospheric Administration (NOAA), Commerce.

ACTION: Notice of intent to prepare a draft supplemental environmental impact statement (DSEIS); request for comments; notice of public hearings.

SUMMARY: The Caribbean Fishery Management Council (Council) intends to prepare a DSEIS to assess the impacts on the natural and human environment of the management measure proposed in its draft Amendment 2 to the Fishery Management Plan for the Queen Conch Resources of Puerto Rico and the U.S. Virgin Islands (FMP). The purpose of this document is to solicit public comments on the scope of the issues to be addressed in the DSEIS and to provide information on the Council's intended schedule for hearings for completing the DSEIS and submitting it to NMFS for filing with the Environmental Protection Agency for publication of a notice-of-availability for public comment.

DATES: The two public hearings will be held on Monday, November 26, 2001; see SUPPLEMENTARY INFORMATION. Written comments on the scope of issues to be addressed in the DSEIS will be accepted through November 26, 2001.

ADDRESSES: Written comments should be sent to Miguel A. Rolón, Executive Director, Caribbean Fishery Management Council, 268 Muñoz Rivera Avenue, Suite 1108, San Juan, Puerto Rico 00918-1920, telephone: 787-766-5926; fax: 787-766-6239; or you can send comments by e-mail to: Miguel.A.Rolon@noaa.gov or Graciela.Garcia-Moliner@noaa.gov. Copies of the draft Amendment 2 and the preliminary DSEIS may be obtained by contacting the Caribbean Fishery Management Council, 268 Muñoz Rivera Avenue, Suite 1108, San Juan, Puerto Rico 00918-2577, phone: 787-766-5926. Public hearings will meet at Puerto Rico, and St. Thomas, VI; for specific locations, see SUPPLEMENTARY INFORMATION.

FOR FURTHER INFORMATION CONTACT: Caribbean Fishery Management Council, 268 Muñoz Rivera Avenue, Suite 1108, San Juan, Puerto Rico 00918-2577, phone: 787-766-5926, or Dr. Peter J. Eldridge, Southeast Regional Office, NMFS, 9721 Executive Center Drive N., St. Petersburg, FL 33702, phone: 727-570-5305; fax: 727-570-5583; e-mail: Peter.Eldridge@noaa.gov.

SUPPLEMENTARY INFORMATION:

Background

The FMP was prepared by the Council and approved and implemented by NMFS under procedures of the Magnuson-Stevens Fishery Conservation and Management Act (Magnuson-Stevens Act). The FMP’s management measures for queen conch apply in the Exclusive Economic Zone (EEZ) in the U.S. Caribbean. For the purposes of the FMP and its implementing regulations, the U.S. Caribbean consists of the Federal waters beyond the 9 nautical mile boundary in Puerto Rico, and beyond the 3 nautical mile boundary in St. Thomas, St. John and St. Croix, U.S. Virgin Islands. The FMP currently establishes the following management measures for queen conch: (1) A 9-inch overall minimum size limit, or a 3/8-inch shell-lip thickness limitation on the possession of queen conch; (2) a requirement that all species in the management unit be landed in the shell, and that the sale of undersized queen conch and queen conch shells be prohibited; (3) a bag limit of three queen conch/day for recreational fishers, not to exceed 12 per boat, and 150 queen conch/day for licensed commercial fishers; (4) the closure of the harvest season from July 1 through September 30 of each consecutive year; and (5) the prohibition of harvesting queen conch by HOOKAH gear in the EEZ.

The Council is preparing draft FMP Amendment 2. The objectives of Amendment 2 are to address NMFS’ determination that queen conch is overfished and is undergoing overfishing. Amendment 2, in addressing these issues, proposes to prohibit the harvest and possession of queen conch in the Caribbean EEZ. The Council is preparing a DSEIS as an integrated part of Amendment 2. The DSEIS will describe the amendment's proposed management measure and reasonable alternatives and will assess the environmental impacts of the proposed and alternative measures. The Council is requesting written comments on the scope of the issues to be addressed in the DSEIS. Based on input received during eight public hearings held previously in July 2000 (see notice of these hearings at 65 FR 40600), the Council intends to revise draft Amendment 2, as appropriate, and to finalize the DSEIS. At the July 2000 hearings, the Council changed the number of the Amendment from Amendment 1 to Amendment 2. The proposed management measure has not been included in a previous FMP amendment.

The Council intends that the public hearings scheduled for November 26, 2001, supplement, for scoping purposes, the eight public hearings that the Council conducted from July 10, 2000, through July 26, 2000, on a preliminary draft of Amendment 2 and associated preliminary DSEIS. The Council also invites the public to comment on the scope of the issues to be addressed by Amendment 2 and its DSEIS and on the types of environmental impacts associated with alternative management measures, including the proposed measure discussed above.

Once the Council completes the DSEIS, it will submit it to NMFS for filing with the Environmental Protection Agency (EPA). EPA will publish in the Federal Register a notice of availability of the DSEIS for public comment. This procedure is pursuant to regulations issued by the Council on Environmental Quality (CEQ) for implementing the procedural provisions of the National Environmental Policy Act (NEPA) (40 CFR parts 1500-1508) and to NOAA's Administrative Order 216-6 regarding NOAA's compliance with NEPA and the CEQ regulations.

The Council intends to consider public comments received on the DSEIS before adopting final management measures for a final Amendment 2 and to prepare a final supplemental environmental impact statement (FSEIS) in support of its final Amendment 2. The Council would then submit the final Amendment 2 and supporting FSEIS to NMFS for Secretarial review, approval, and implementation under the Magnuson-Stevens Act. NMFS will announce availability of Amendment 2 for public review during the Secretarial review period though notice published in the Federal Register. During Secretarial review, NMFS will also file the FSEIS with EPA for a final public comment period on the FSEIS. This comment period will be concurrent with the Secretarial review period and will end prior to final agency action to approve, disapprove, or partially approve Amendment 2. All public comment periods on Amendment 2, its proposed implementing regulations, and its associated FSEIS will be announced through notice published in the Federal Register. NMFS will consider all public comments received during the Secretarial review period for Amendment 2 (60-day period), whether they are on the amendment, the FSEIS, or the proposed regulations, prior to final agency action.

Time and Location for Public Hearings

Both hearings are scheduled on, Monday, November 26, 2001, at the following times and locations.

1. Puerto Rico, Pierre Hotel, De Diego Avenue, Condado, Puerto Rico, from 2 p.m. to 5 p.m.

2. US Virgin Islands, Windward Passage Holiday Inn Hotel, Veterans Drive, Charlotte Amalie, St. Thomas, VI, from 7 p.m. to 10 p.m.. Written comments will be accepted through November 26, 2001.

Special Accommodations

These hearings are physically accessible to people with disabilities. Requests for sign language interpretation or other auxiliary aids should be directed to the Council office (see ADDRESSES) by November 16, 2001.

Dated: October 30, 2001.
Bruce Morehead,
Acting Director Office of Sustainable Fisheries, National Marine Fisheries Service.

[FR Doc. 01-27723 Filed 10-31-01; 4:27 pm]

BILLING CODE 3510-22-S